JUDICIAL CONFERENCE OF THE UNITED STATES

Hearing of the Judicial Conference Advisory Committee on Rules of Civil Procedure

AGENCY: Judicial Conference of the United States Advisory Committee on Rules of Civil Procedure.

ACTION: Notice of cancellation of open hearing.

SUMMARY: The public hearing on proposed amendments to the Federal Rules of Civil Procedure, scheduled for October 26, 2005, in San Francisco, California, has been canceled. [Original notice of hearing appeared in the Federal Register of July 14, 2005.]

FOR FURTHER INFORMATION CONTACT: John K. Rabiej, Chief, Rules Committee Support Office, Administrative Office of the United States Courts, Washington, DC 20544, telephone (202) 502-1820.

Dated: September 26, 2005.
John K. Rabiej,
Chief, Rules Committee Support Office.

[FR Doc. 05-19679 Filed 9-30-05; 8:45 am]

BILLING CODE 2210-55-M